DEPARTMENT OF HEALTH AND HUMAN SERVICES

National Institutes of Health

Center for Scientific Review; Amended Notice of Meeting

Notice is hereby given of a change in the meeting of the Center for Scientific Review Special Emphasis Panel, Molecular Neuroscience of Channels and Receptors, October 18, 2013, 1:00 p.m. to October 18, 2013, 3:00 p.m., National Institutes of Health, 6701 Rockledge Drive, Bethesda, MD 0892 which was published in the Federal Register on September 24, 2013, 78 FR 58548.

The meeting will be held on November 21, 2013. The meeting time and location remain the same. The meeting is closed to the public.

Dated: October 28, 2013.
Anna Snouffer,
Deputy Director, Office of Federal Advisory Committee Policy.

[FR Doc. 2013-25894 Filed 10-30-13; 8:45 am]

BILLING CODE 4140-01-P